DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the FY 2011 Program by three wool producers on behalf of wool producers in Idaho, Utah, and Wyoming. The Administrator will determine within 40 days whether increasing imports of wool contributed importantly to a greater than 15-percent decrease in the value of production of wool, compared to the average of the 3 preceding marketing years. If the determination is affirmative, producers who produce and market wool in Idaho, Utah, and Wyoming will be eligible to apply to the Farm Service Agency for free technical assistance and cash benefits.

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 14, 2010.
John D. Brewer,
Administrator, Foreign Agricultural Service.

[FR Doc. 2010-17805 Filed 7-20-10; 8:45 am]

BILLING CODE 3410-10-P